GENERAL SERVICES ADMINISTRATION

Notice of Intent To Prepare an Environmental Impact Statement (EIS) for the Future Master Plan Development for the Centers for Disease Control (CDC) in Chamblee, GA

Pursuant to the requirements of the National Environmental Policy Act (NEPA) of 1969, and the President's Council on Environmental Quality Regulations (40 CFR parts 1500-1508), as implemented by General Services Administration (GSA) Order PBS P 1095.4D, GSA announces its Notice of Intent (NOI) to prepare an EIS for the proposed development and future build out for the CDC in Chamblee, Georgia. The proposed action includes the expansion of facilities and will include additional buildings, parking structures, and infrastructure on Government-owned property located in Chamblee located south of Tucker Road between Peachtree Dekalb Airport and Buford Highway. The EIS will examine the impacts of this proposed development on the natural and human environment to include impacts to wetlands, floodplains, traffic, and other potential impacts identified by the community through the scoping process.

The EIS will address the potential impacts of two alternatives: the Proposed Action (Development Alternative), and No-Action Alternative (meet facility requirements without full development on site). GSA will solicit community input throughout this process, and will incorporate community comments into the decision process. As part of the Public Scoping process, GSA solicits comments in writing at the following address: Mr. Phil Youngberg, Environmental Manager (4PT), General Services Administration (GSA), 77 Forsyth Street, Suite 450, Atlanta, GA 30303 or Fax: Mr. Phil Youngberg at 404-562-0790. Comments should be submitted in writing no later than June 1st, 2001.

Dated: April 18, 2001.
Phil Youngberg,
Environmental Manager (4PT), General Services Administration.

[FR Doc. 01-11147 Filed 5-2-01; 8:45 am]

BILLING CODE 6820-23-M